DEPARTMENT OF COMMERCE

International Trade Administration

[A-580-816]

Certain Corrosion-Resistant Carbon Steel Flat Products From the Republic of Korea: Notice of Court Decision Not in Harmony With Final Results of Administrative Review and Notice of Amended Final Results of Administrative Review; 2005-2006

SUMMARY: On August 8, 2013, the United States Court of International Trade (“CIT” or “Court”) entered final judgment sustaining the Department of Commerce's (“Department”) final results of the remand redetermination ¹ relating to the thirteenth administrative review of the antidumping duty order on certain corrosion-resistant carbon steel flat products (“CORE”) from the Republic of Korea (“Korea”), pursuant to the CIT's remand order in Union Steel v. United States, 753 F. Supp. 2d 1317 (CIT 2011) (“Union II”). Consistent with the decision of the United States Court of Appeals for the Federal Circuit (“CAFC”) in Timken Co. v. United States, 893 F.2d 337 (Fed. Cir. 1990) (“Timken”), as clarified by Diamond Sawblades Mfrs. Coalition v. United States, 626 F.3d 1374 (Fed. Cir. 2010) (“Diamond Sawblades”), the Department is notifying the public that the final CIT judgment in this case is not in harmony with the Department's final results of administrative review and is amending its final results of the administrative review of the antidumping duty order on CORE from Korea covering the period of review (“POR”) of August 1, 2005 through July 31, 2006, with respect to the weighted-average dumping margin assigned to Union Steel Manufacturing Co., Ltd. (“Union”).

¹ See Final Remand Results of Redetermination Pursuant to Remand, CIT Court No. 08-00101 (April 11, 2011) (“Second Remand Results”).

DATES: Effective August 19, 2013.

FOR FURTHER INFORMATION CONTACT: Christopher Hargett, Office 8, AD/CVD Operations, Import Administration, International Trade Administration, U.S. Department of Commerce, 14th Street and Constitution Avenue NW., Washington, DC 20230; telephone: (202) 482-4161.

SUPPLEMENTARY INFORMATION:

Background

The Department published the final results of the thirteenth administrative review of the antidumping duty order on CORE from Korea on March 17, 2008.² Union subsequently filed a timely complaint with the CIT to challenge various aspects of the Final Results.

² See Certain Corrosion-Resistant Carbon Steel Flat Products from the Republic of Korea: Notice of Final Results of the Thirteenth Administrative Review, 73 FR 14220 (March 17, 2008) (“Final Results”).

On September 28, 2009, the Court granted the Department's request for voluntary remand to provide additional explanation with regard to the model-match criteria as applied to Union.³ On December 28, 2009, the Department filed initial remand results providing that explanation, but without changing its methodology or recalculating Union's weighted-average dumping margin.⁴ On January 11, 2011, the Court again remanded for the Department to reconsider its position with regard to the model-match criteria as applied to Union.⁵ On April 11, 2011, the Department revised its position with regard to the model-match criteria as applied to Union and recalculated Union's weighted-average margin from 4.35 percent in the Final Results to 3.59 percent.⁶ On November 21, 2011, the Court sustained the Department's remand redetermination regarding the model-match criteria.⁷ On August 8, 2013, after disposition of remaining issues, the Court entered final judgment.⁸

³ See Union Steel v. United States, 645 F. Supp. 2d 1298 (CIT 2009).

⁴ See Final Remand Results of Redetermination Pursuant to Remand, CIT Court No. 08-00101 (December 28, 2009).

⁵ See Union II.

⁶ See Second Remand Results.

⁷ See Union Steel v. United States, 804 F. Supp. 2d 1356 (CIT 2011).

⁸ See Union Steel v. United States, Court No. 08-00101, Slip Op. 13-105 (CIT Aug. 8, 2013).

Timken Notice

In its decision in Timken, as clarified by Diamond Sawblades, the CAFC held that, pursuant to section 516A(c) of the Tariff Act of 1930, as amended (“the Act”), the Department must publish a notice of a court decision that is not “in harmony” with a Department determination and must suspend liquidation of entries pending a “conclusive” court decision. The CIT's August 8, 2013, judgment in this case constitutes a final decision of that court that is not in harmony with the Department's final results of the administrative review. This notice is published in fulfillment of the publication requirements of Timken. Accordingly, the Department will continue the suspension of liquidation of the subject merchandise pending expiration of the period of appeal or, if appealed, pending a final and conclusive court decision. Because the antidumping duty order on CORE from Korea has been revoked effective February 14, 2012, cash deposits are no longer in effect.⁹

⁹ See Corrosion-Resistant Carbon Steel Flat Products from Germany and the Republic of Korea: Revocation of Antidumping and Countervailing Duty Orders, 78 FR 16832 (March 19, 2013)

Amended Final Results

Because there is now a final court decision with respect to this case, the Department is amending its Final Results with respect to Union's weighted-average dumping margins for the period August 1, 2005 through July 31, 2006.¹⁰ The revised weighted-average dumping margin is as follows:

¹⁰ The remaining weighted-average dumping margins from the Final Results remain unchanged.

Manufacturer/exporter | Weighted-average dumping margin (percent)
Union Steel Manufacturing Co., Ltd. | 3.59

In the event that the CIT's ruling is not appealed, or if appealed, upheld by the CAFC, the Department will instruct CBP to liquidate entries of subject merchandise in accordance with 19 CFR 351.212(b).¹¹

¹¹ See Final Results, 73 FR at 14221.

This notice is issued and published in accordance with sections 516A(e)(1), 751(a)(1), and 777(i)(1) of the Act.

Dated: September 19, 2013.
Paul Piquado,
Assistant Secretary for Import Administration.

[FR Doc. 2013-23643 Filed 9-26-13; 8:45 am]

BILLING CODE 3510-DS-P